DEPARTMENT OF ENERGY

Federal Energy Regulatory Commission

[Docket No. EG00-226-000, et al.]

Newington Energy, L.L.C., et al. Electric Rate and Corporate Regulation Filings

August 25, 2000.

Take notice that the following filings have been made with the Commission:

1. Newington Energy, L.L.C.

[Docket No. EG00-225-000]

Take notice that on July 10, 2000, Newington Energy, L.L.C. (NEL), a Delaware limited liability company with its principal place of business at 111 Broadway, New York, NY 10006, tendered for filing with the Federal Energy Regulatory Commission an amendment to its application for determination of exempt wholesale generator status pursuant to Part 365 of the Commission's Regulations. On August 18, 2000, NEL filed an Amendment No. 1 to its application amending numbered paragraph 6 of such application.

NEL proposes to own and operate a nominally rated approximately 525 MW natural gas-fired, combined cycle power plant in the town of Newington, New Hampshire. The proposed power plant is expected to commence commercial operation in May, 2002. All capacity and energy from the plant will be sold exclusively at wholesale.

Comment date: September 15, 2000, in accordance with Standard Paragraph E at the end of this notice. The Commission will limit its consideration of comments to those the concern the adequacy or accuracy of the application.

2. American Electric Power Service Corporation

[Docket No. ER00-3463-000]

Take notice that on August 22, 2000, the American Electric Power Service Corporation (AEPSC), tendered for filing executed Firm and Non-Firm Point-to-Point Transmission Service Agreements for MidAmerican Energy Company. The agreements are pursuant to the AEP Companies' Open Access Transmission Service Tariff (OATT) that has been designated as the Operating Companies of the American Electric Power System FERC Electric Tariff Revised Volume No. 6, effective June 15, 2000.

AEPSC requests waiver of notice to permit the Service Agreements to be made effective for service billed on and after August 1, 2000.

AEPSC also requests termination on August 19, 2000, of a firm service agreement executed October 1, 1999, by Illinova Power Marketing, Inc. under AEP Companies' FERC Electric Tariff Original Volume No. 4. Dynegy Power Marketing, Inc., merger partner to Illinova Corporation, requested the termination of the service agreement.

A copy of the filing was served upon the Parties and the state utility regulatory commissions of Arkansas, Indiana, Kentucky, Louisiana, Michigan, Ohio, Oklahoma, Tennessee, Texas, Virginia and West Virginia.

Comment date: September 12, 2000, in accordance with Standard Paragraph E at the end of this notice.

3. MidAmerican Energy Company

[Docket No. ES00-51-000]

Take notice that on August 22, 2000, MidAmerican Energy Company (MidAmerican) submitted an application pursuant to section 204 of the Federal Power Act seeking authorization to issue and sell bonds, notes, debentures, guarantees or other evidences of long-term indebtedness in a principal amount not to exceed $500 million. MidAmerican seeks authorization for a two-year period commencing October 21, 2000, and terminating October 20, 2002.

MidAmerican also requests a waiver of the Commission's competitive bidding and negotiated placement requirements of 18 CFR 34.2.

Comment date: September 15, 2000, in accordance with Standard Paragraph E at the end of this notice.

4. Alcoa Power Generating Inc.

[Docket No. ER00-3465-000]

Take notice that on August 22, 2000 Alcoa Power Generating Inc. (APGI), tendered for filing a service agreement between British Columbia Power Exchange Corporation (British Columbia) and APGI under APGI's Market Rate Tariff No. 1 (MR-1). This Tariff was accepted for filing by the Commission on July 13, 1999, in Docket No. ER99-2932-000.

APGI requests waiver of the Commission's prior notice requirement and requests an effective date of July 16, 2000.

Comment date: September 12, 2000, in accordance with Standard Paragraph E at the end of this notice.

5. New York Independent System Operator, Inc.

[Docket No. ER00-3462-000]

Take notice that on August 22, 2000, the New York Independent System Operator, Inc. (NYISO), tendered for filing proposed revisions to section 5.14 of its Market Administration and Control Area Services Tariff.

The NYISO requests an effective date of 60 days after this filing (October 23, 2000).

Copies of this filing were served upon all persons who have signed the NYISO Market Administration and Control Area Services Tariff.

Comment date: September 12, 2000, in accordance with Standard Paragraph E at the end of this notice.

6. California Power Exchange Corporation

[Docket No. ER00-3461-000]

Take notice that on August 22, 2000, California Power Exchange Corporation (CalPX), tendered for filing a proposed amendment to Original Sheet No. 96 of its FERC Electric Service Tariff No. 2. That amendment seeks Commission authorization to implement a maximum price limit resolution which was approved by the CalPX Board of Governors on August 16, 2000 (a copy of which is included in CalPX's submittal).

CalPX proposes an effective date as soon as possible but no later than 60 days after filing.

Copies of the filing were served on all CalPX participants, the California Public Utilities Commission and the Official Service List in Docket No. EL00-95-000. The filing is also posted on the CalPX website at www.CalPX.com.

Comment date: September 12, 2000, in accordance with Standard Paragraph E at the end of this notice.

7. Tucson Electric Power Company

[Docket No. ER00-3460-000]

Take notice that on August 22, 2000, Tucson Electric Power Company tendered for filing one (1) umbrella service agreement (for short-term firm service) and one (1) service agreement (for non-firm service) pursuant to Part II of Tucson's Open Access Transmission Tariff, which was filed in Docket No. OA 96-140-000.

The details of the service agreement is as follows:

(1) Umbrella Agreement for Short-Term Firm Point-to-Point Transmission Service dated as of August 7, 2000 by and between Tucson Electric Power Company and American Electric Power Service Corporation—FERC Electric Tariff Vol. No. 2, Service Agreement No. 116. No service has commenced at this time.

(2) Form of Service Agreement for Non-Firm Point-to Point Transmission Service dated as of August 7, 2000 by and between Tucson Electric Power Company and American Electric Power Service Corporation—FERC Electric Tariff Vol. No. 2, Service Agreement No. 117. No service has commenced at this time.

Comment date: September 12, 2000, in accordance with Standard Paragraph E at the end of this notice.

8. Alliant Energy Corporate Services, Inc.

[Docket No. ER00-3459-000]

Take notice that on August 22, 2000, Alliant Energy Corporate Services, Inc. tendered for filing executed Service Agreements for short-term firm point-to-point transmission service and non-firm point-to-point transmission service, establishing TXU Energy Trading Company as a point-to-point Transmission Customer under the terms of the Alliant Energy Corporate Services, Inc., transmission tariff.

Alliant Energy Corporate Services, Inc., requests an effective date of July 31, 2000, and accordingly, seeks waiver of the Commission's notice requirements.

A copy of this filing has been served upon the Illinois Commerce Commission, the Minnesota Public Utilities Commission, the Iowa Department of Commerce, and the Public Service Commission of Wisconsin.

Comment date: September 12, 2000, in accordance with Standard Paragraph E at the end of this notice.

9. Nevada Power Company

[Docket No. ER00-3458-000]

Take notice that on August 22, 2000, Nevada Power Company (Nevada Power), tendered for filing executed Service Agreements (Agreements) with Cargill-Alliant, LLC for Non-Firm and Short-Term Firm Transmission Service under Sierra Pacific Resources Operating Companies, FERC Electric Tariff, Original Volume No. 1, Open Access Transmission Tariff (Tariff).

Nevada Power filed the executed Agreements with the Commission in compliance with Section 13.4 and 14.4 of the Tariff and applicable Commission regulations. Nevada Power also submitted Original Sheet Nos. 173 and 173A (Attachment E) to the Tariff, which is an updated list of all current subscribers. Nevada Power requests waiver of the Commission's notice requirements to permit and effective date of August 23, 2000 for Attachment E, and to allow the Agreements to become effective according to their terms.

Copies of this filing were served upon the Public Utilities Commission of Nevada, the Public Utilities Commission of California and all interested parties.

Comment date: September 12, 2000, in accordance with Standard Paragraph E at the end of this notice.

10. Nevada Power Company

[Docket No. ER00-2015-003]

Sierra Pacific Power Company

[Docket No. ER00-2018-003]

Take notice that on August 22, 2000, Nevada Power Company (Nevada Power) and Sierra Pacific Power Company (Sierra), tendered for filing pursuant to Section 205 of the Federal Power Act and the Commission's Order in the above-referenced proceeding dated May 31, 2000, a revised section 5.1 to the Transition Power Purchase Contracts that will apply to sales from the divested generation to Nevada Power and Sierra. The revisions are intended to comply with the requirement in the Commission's May 31 Order regarding the notice that must be given of the amount of capacity taken under the contracts.

Comment date: September 12, 2000, in accordance with Standard Paragraph E at the end of this notice.

11. Entergy Services, Inc.

[Docket Nos. ER99-2854-002; EL99-87-002; ER95-112-011; and ER96-586-006]

Take notice that on August 22, 2000, Entergy Services, Inc. (Entergy Services), on behalf of Entergy Arkansas, Inc., Entergy Gulf States, Inc., Entergy Louisiana, Inc., Entergy Mississippi, Inc., and Entergy New Orleans, Inc. (collectively, the Entergy Operating Companies), tendered for filing a compliance refund report in accordance with the Commission orders issued in Docket Nos. ER95-112-010 and ER96-586-005 and Docket Nos. ER99-2854-001 and EL99-87-001.

Comment date: September 12, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-22411 Filed 8-31-00; 8:45 am]

BILLING CODE 6717-01-P